DEPARTMENT OF TRANSPORTATION

National Highway Traffic Safety Administration

Discretionary Cooperative Agreement Program To Support and Promote Law Enforcement Pedestrian Safety Programs

AGENCY: National Highway Traffic Safety Administration, DOT.

ACTION: Announcement of a discretionary cooperative agreement program to support and promote law enforcement pedestrian safety programs.

SUMMARY: The National Highway Traffic Safety Administration (NHSTA) announces a discretionary cooperative agreement program to provide funding to individuals and organizations in support of law enforcement programs to promote pedestrian safety. Law enforcement is a crucial partner and a key element in promoting safety, but may not be equipped with effective tools to protect the walking public. NHTSA has a guide book titled Law Enforcement Pedestrian Safety, which was developed in the early 1990's. That document is currently under revision, however, critical elements of law enforcement involvement in pedestrian safety remain unchanged: Visible enforcement reduces traffic violations; traffic enforcement can promote and enhance other law enforcement missions; prevention of crashes is part of law enforcement's role; and, promoting pedestrian safety can be a non-adversarial way to work within the community.

NHTSA anticipates funding approximately four (4) demonstration projects for a minimum period of one year and a maximum period of two years. To this end, this cooperative agreement will support projects that promote law enforcement involvement in pedestrian safety programs.

This notice solicits applications from public and private, non-profit and not-for-profit organizations, State and local governments and their agencies, or a consortium of the above. Interested applicants must submit an application packet as further described in the application section of this notice. The application will be evaluated to determine the proposals that will receive funding under this announcement.

DATES: Applications must be received in the office designated below on or before 1 p.m. (e.d.t.), on July 8, 2003.

ADDRESSES: Applications must be submitted to the National Highway Traffic Safety Administration, Office of Contracts and Procurement (NPO-220) Attention: April Jennings, 400 Seventh Street SW., Room 5301, Washington, DC 20590. All applications submitted must include a reference to NHTSA Cooperative Agreement Program Number DTNH22-03-H-05078.

FOR FURTHER INFORMATION CONTACT: General administrative questions may be directed to April Jennings, Office of Contracts and Procurement at 202-366-9571, or by e-mail at ajennings@nhtsa.dot.gov. Programmatic questions relating to this cooperative agreement program should be directed to Essie Wagner, Safety Countermeasures Division, NHTSA, 400 Seventh Street, SW. (NTI-121), Washington, DC 20590, by e-mail at ewagner@nhtsa.dot.gov or by phone at 202-366-0932. Interested applicants are advised that no separate application package exists beyond the contents of this announcement.

SUPPLEMENTARY INFORMATION:

Background

Walking, whether it is to school, across the street, or even across the parking lot, is at best taken for granted, or at worst, is deemed too dangerous. Parents are increasingly reluctant to let their children walk to school because of safety considerations. Older people continue to drive after they should have given it up because they feel safer on the street than crossing it. In 2001, pedestrians accounted for 11½% of the nation's traffic fatalities and an estimated 78,000 injuries in police-reported crashes. Some portions of the population are at greater risk than others: for children under age 16, pedestrian crashes account for nearly 19% of the children killed in crashes in the year 2001; people over age 65 account for 21% of the pedestrian fatalities nationwide, though they account for only 13% of the population; alcohol involvement, either for the driver or for the pedestrian, was reported in 47% of the traffic crashes that resulted in a pedestrian fatality.

In many jurisdictions, the role of law enforcement is limited to post-crash activities, with little prevention. However, there are agencies located across the country that have implemented innovative approaches to preventing pedestrian crashes. Different strategies have included:

• Pedestrian Decoy Operations—enforcement that targets specific crosswalks that are problem locations. Drivers who do not yield to the pedestrian in the crosswalk (often a plain-clothed law enforcement officer) are ticketed for the violation. This is paired with outreach to local media outlets to ensure that the public is aware of the effort and the requirement to yield to pedestrians.

• Traffic Law Enforcement Trouble-Shooting Meetings—senior law enforcement agency personnel and officers assigned to traffic enforcement meet on a monthly basis to discuss particular traffic safety problems, crashes, and solutions. This creates an environment within the department that encourages and supports protecting pedestrian safety, and is responsive to problems that officers have identified.

• Training Academy Courses—some training academies have separate courses that specifically address pedestrian safety enforcement issues. They train officers on how to meet the needs of the walking public and to promote safety among drivers. Adjudication of violations is addressed, and strategies for promoting pedestrian safety are discussed.

• Civil Partnerships—some communities have pedestrian safety organizations as public-private partnerships. Law enforcement representation on the panel helps the policing agency to identify pedestrian safety problems and quickly move to eliminate them, and to work with local activists in a collaborative way.

• Alcohol Outreach—in jurisdictions in which alcohol-related pedestrian crashes are frequent, law enforcement agencies have engaged servers and bar owners in discussion to encourage them to be mindful that even if their patrons are not driving, they can be at risk for pedestrian crashes. In turn, the servers discuss the issue with their patrons, and encourage them to find alternate ways home or to exercise special care while walking.

Each of these approaches is a means of targeting the problem of pedestrian crash involvement. Each approach is tailored to the community in which it is implemented. In each department, the profile and importance of pedestrian safety is raised to a level that the community can support, because the community at large understands why law enforcement is taking action. These models of law enforcement can serve as a guide for other agencies to initiate programs and develop effective pedestrian crash countermeasures, to inform pedestrians and motorists of appropriate behavior, to reduce risky behavior, and to protect the walking public.

The above approaches can be initiated and completed within a one to two year time frame. Moreover, these approaches are expected to build local support and capacity for efforts to improve safe walking. There may be other models and strategies that are not described above which may also be appropriate for demonstration and implementation.

The challenge now before us is implementation—encouraging more departments to raise the priority of pedestrian safety. Law Enforcement Pedestrian Safety and its upcoming revision must not sit on a shelf. Rather the steps articulated in the document must be put into action to make walking safe for all. To help facilitate implementation efforts, NHTSA proposes to support approximately four (4) mini-grant programs aimed at putting into action law enforcement programs that promote pedestrian safety.

Copies of Law Enforcement Pedestrian Safety (DOT HS 808 008) are available from NHTSA via the hotline number, 888-327-4236. More information about the role of law enforcement in pedestrian safety can be found at the Pedestrian and Bicycle Information Center (PBIC) Web site, www.walkinginfo.org/ee/enforcement.htm.

Purpose

The purpose of this cooperative agreement program is to support implementation of law enforcement pedestrian safety programs. Approximately four mini-grant projects addressing pedestrian safety will be supported. Each cooperative agreement recipient will be expected to coordinate an effort that promotes pedestrian safety through a comprehensive and sustained program through a law enforcement agency. Project length will vary depending on the scope of the proposed effort. However, projects will be considered for a minimum of one year and a maximum of two years.

Objective

The objective is to provide seed monies to stakeholders for the purpose of implementing law enforcement pedestrian safety programs. Proposals may address any strategy or strategies, but must be supported by problem identification and/or crash data. Examples of possible projects include:

1. Identify the key components of an enforcement-based education campaign for motorists and pedestrians and pilot-test a program built on these. Innovative methods are encouraged.

2. Are there ways, other than a major public information campaign, of teaching motorists about watching for and yielding to pedestrians? If so, identify and pilot test innovative approaches.

3. Identify and pilot test innovative ways to teach officers about pedestrian safety and how to properly enforce the local laws among motorists and pedestrians.

4. With law enforcement, develop and test programs to encourage new partners, especially business and industry, to embrace and promote pedestrian safety.

5. Implement and evaluate pedestrian safety activities specifically designed to address nontraditional and diverse populations (e.g., community-based education outreach; different ethnicities; disabilities; ages; geographical locations; etc.)

6. Implement and evaluate a pedestrian safety program that addresses alcohol impairment among pedestrians.

7. Identify and evaluate innovative enforcement efforts to enforce existing pedestrian safety laws. What methods of enforcement are most effective? Is there an association between enforcement and a decrease or increase in injuries and/or fatalities, or between enforcement and walking?

8. Identify and evaluate how pedestrian crash data are collected and recorded by law enforcement. What are the data collection procedures and practices? How do these affect the determination of fault between the driver and pedestrian? Do unreported injury crashes appear in local emergency departments?

9. Identify and evaluate pedestrian safety enforcement tools used to enforce traffic safety laws aimed at pedestrians and motorists. Who uses the tools? How are the tools used? Are the tools effective? What additional tools might be needed? How might these tools best be disseminated?

10. Investigate how courts are currently adjudicating pedestrian-related incidents. Include judicial outcomes.

11. Assess the availability and adequacy of pedestrian-related data and reporting systems used by courts.

12. Implement and evaluate a department-wide enforcement initiative to enforce pedestrian crossing laws that affects both motorists and pedestrians. Are there fewer violations? How often must targeted enforcement efforts be implemented to influence change within the community?

13. Implement and evaluate a department-wide assessment program that carefully examines each reported pedestrian crash on a monthly basis, communicates the findings to the traffic law enforcement division, and executes countermeasures immediately to prevent recurrence of similar crashes.

14. Demonstrates successful strategies to effectively work with local engineers and State and local departments of transportation to implement engineering solutions to improve pedestrian safety.

NHTSA Involvement

NHTSA will be involved in all activities undertaken as part of the cooperative agreement program and will:

1. Provide a Contracting Officer's Technical Representative (COTR) to participate in the planning and management of this cooperative agreement and to coordinate activities between the Grantee And NHTSA.

2. Provide information and technical assistance from government sources within available resources and as determined appropriate by the COTR.

3. Serve as a liaison between NHTSA Headquarters, Regional Offices, and others (Federal, State, and local) interested in reducing pedestrian-related injuries and fatalities and promoting the activities of the grantee.

4. Review and provide comments on program content, materials, and evaluation activities.

5. Stimulate the transfer of information among grant recipients and others engaged in pedestrian safety activities.

Availability of Funds

Approximately $300,000 is available to fund a number of projects for up to $75,000 each. The total number of awards will depend on the quality of the projects submitted for consideration. Given the amount of funds available for this effort, applicants are strongly encouraged to seek other funding opportunities to supplement the Federal funds. Preference will be given to applicants with cost-sharing proposals. At the discretion of the government, funds may be obligated fully at the time of award of the cooperative agreement or incrementally over the period of the cooperative agreement. Nothing in this solicitation should be construed as committing NHTSA to make any award.

Period of Performance

The period of performance for this cooperative agreement will be not more than two (2) years from the effective date of award. However, the actual period of performance will depend on the scope of work for the submitted project.

Eligibility Requirements

Applications may be submitted by public and private, non-profit and not-for-profit organizations, and State and local governments and their agencies or a consortium of the above. Thus, universities, colleges, research institutions, hospitals, other public and private (non- or not-for-profit) organizations, and State and local governments are eligible to apply. Applications must fully involve law enforcement agencies, including letters of support from the agency head, and an officer that is assigned responsibility for the project explicitly identified in the application. Interested applicants are advised that no fee or profit will be allowed under this cooperative agreement program.

To be eligible to participate in this cooperative agreement, applicants must meet the following special competencies:

1. Demonstrate expertise in traffic safety, program development and implementation, and knowledge and experience in pedestrian safety issues in the community that is to receive the award. Demonstrate knowledge and familiarity with data sources (including local data) needed to determine the incidence of pedestrian-related injuries, and access to the local data sources.

2. Demonstrate capability of technical and management skills to successfully administer and complete projects in a timely manner. Include a narrative description of the documented experience, clearly indicating the relationship to this project and providing details such as project description and sponsoring agency. References to completed final project reports should include author's name.

3. Demonstrate capacity to:

a. Design, implement, and evaluate innovative approaches for addressing difficult problems related to issues associated with pedestrian safety, crashes, and injuries;

b. Work successfully with pedestrian and other community groups;

c. Collect and analyze both quantitative and qualitative data; and

d. Synthesize, summarize, and report results, which are usable and decision-oriented.

4. Demonstrate experience in working in partnership with others, for example, law enforcement, engineering departments, schools, government agencies, the media, etc.

Application Procedures

Each applicant must submit one (1) original and two (2) copies of the application package to: NHTSA, Office of Contracts and Procurement (NPO-220), 400 Seventh Street, SW., Room 5301, Washington, DC 20590. Applications must include a completed Application for Federal Assistance (Standard Form 424—Revised 4/88). An additional two copies will facilitate the review process, but are not required.

Only complete packages received on or before 1 p.m., July 8, 2003 will be considered. No facsimile transmissions will be accepted. Applications must be typed on one side of the page only and contain a reference to NHTSA Cooperative Agreement Number DTNH22-03-H-05078. Unnecessarily elaborate applications beyond what is sufficient to present a complete and effective response to this invitation are not desired. Please direct cooperative agreement application questions to April Jennings, at 202-366-9571 or by e-mail at ajennings@nhtsa.dot.gov. Programmatic questions should be directed to Essie Wagner, by e-mail at ewagner@nhtsa.dot.gov or by phone at 202-366-0932.

Application Contents

A. The application package must be submitted with OMB Standard Form 424, (Rev 7-97 or 4-88, including 424A and 424B), Application for Federal Assistance, including 424A, Budget Information—Nonconstruction Program, and 424B, Assurances—Non-construction Programs, with the required information provided and the certified assurances included. While the Form 424-A deals with budget information, and Section B identifies Budget Categories, the available space does not permit a level of detail which is sufficient to provide for a meaningful evaluation of the proposed costs. A supplemental sheet should be provided which presents a detailed breakout of the proposed costs (detail labor, including labor category, level of effort, and rate; direct materials, including itemized equipment; travel and transportation, including projected trips and number of people traveling; subcontractors/subgrantees, with similar detail, if known; and overhead), as well as any costs the applicant proposes to contribute or obtain from other sources in support of the projects in the project plan. The estimated costs should be separated and proposed on the basis of individual Federal fiscal years, i.e. beginning October 1, 2003 through September 30, 2004; October 1, 2004 through September 30, 2005; etc. No more than 10% of the funds from the NHTSA award may be used for overtime pay of officers. No more than 10% of the funds from the NHTSA award may be used for travel.

B. Funding sources other than the funds being provided through this cooperative agreement are encouraged. Since activities may be performed with a variety of financial resources, applicants need to fully identify all project costs and their funding sources in the proposed budget. The proposed budget must identify all funding sources in sufficient detail to demonstrate that the overall objectives of the project will be met.

C. Program Narrative Statement: Proposal must fully describe the scope of the project, detailing the activities and costs for which funding is being requested. Also, applications for this program must include the following information in the program narrative statement:

1. A table of contents including page number references.

2. A description of the community in which the grantee proposes to implement or pilot test a pedestrian safety program effort. For the purpose of this program a community includes a city, town, or county, small metropolitan area or a group of cities, towns, or counties in particular region that is covered by one or more law enforcement agencies that will be actively involved in this cooperative agreement. It should be large enough so that the program can have a demonstrable effect on walking and pedestrian safety. The description of the community should include, at a minimum, community demographics including population, the community's pedestrian safety problems, data sources available, existing traffic safety programs, pedestrian crossing laws, pedestrian education programs, and community resources.

3. A description of the project's or program's goal and how the grantee plans to meet the goal. The grantee must be specific with respect to the particular problem being addressed and how the grantee will successfully address the issues. For example, if the grantee is proposing to review and evaluate existing materials, how will the materials be identified? What partnerships may be necessary? What criteria will be used to evaluate the materials? How will the results be reported? Include letters of agreement and support, as appropriate.

4. A description of the specific activity proposed by the grantee. What actions will be undertaken to support the proposed project? What partners need to be involved in the effort to ensure success? To what degree has the buy-in of these groups been secured? How does the proposed project contribute to improving pedestrian safety? What is “success” and how will it be determined?

5. A description of the analytic plan, including how information (data) will be obtained, compiled, analyzed, and reported.

6. A description of how the proposed project will be managed. The application shall identify the proposed project manager and other personnel considered critical to the successful accomplishment of the project, including a brief description of their qualifications and respective organizational responsibilities. The role and responsibilities of the grantee and any others included in the application package shall be specified. The proposed level of effort in performing the various activities shall also be identified.

7. A detailed explanation of time schedules, milestones, and product deliverables, including quarterly reports and draft and final reports. (See Terms and Conditions of Award.)

8. A separately-labeled section with information demonstrating that the applicant meets all of the special requirements outlined in the Eligibility Requirements section of this announcement.

D. Commitment and Support: When other sources and organizations are required to complete the proposed effort, the grantee shall provide proof of such organizations' willingness to cooperate on the effort. In this cooperative agreement, the official in charge of the participating law enforcement agency must provide proof of willingness to cooperate. Such proof can be a letter of support or buy-in indicating what the organization will supply to the grantee. All critical partners shall provide letters of support, detailing what work the partner will do or what resources the partner will provide.

Application Review Process and Criteria

Each application package will be reviewed initially to confirm that the applicant is an eligible recipient, and has included all of the items specified in the Application Procedures section of this announcement. Each complete application from an eligible recipient will then be evaluated by an Evaluation Committee. The applications will be evaluated using the following criteria:

A. Program Approach (25 percent)

The extent to which the applicant is knowledgeable about law enforcement and other pedestrian safety efforts and programs. The extent to which the applicant clearly identifies and explains creative approaches to address pedestrian-related injuries and fatalities. If building on an existing approach or program, what are the innovative, new, or creative features that make this project different from what has been tried in the past? Has the applicant identified potential barriers associated with developing and implementing the new, creative approach? Has the applicant offered solutions for addressing the barriers? Has the applicant demonstrated how the project may be adaptable to other jurisdictions at a reasonable cost? Has the applicant identified partners and groups to work on the proposed project? Has the applicant specified who will be involved and what each will contribute to the project? What new or non-traditional partners has the applicant involved in the project?

B. Goals, Objectives, and Work Plan (20 percent)

The extent to which the applicant's goals are clearly articulated and the objectives are time-phased, specific, action-oriented, measurable, and achievable. The extent to which the work plan will achieve an outcome-oriented result that ultimately will reduce pedestrian-related crashes, injuries, and fatalities. The work plan must address what the applicant proposes to develop and implement; how this will be accomplished; and what major tasks/milestones are necessary to complete the project. This involves identification of, and solutions to, potential technical problems and critical issues related to successful completion of the project. The work plan will be evaluated with respect to its feasibility, realism, and ability to achieve desired outcomes.

C. Special Competencies (15 percent)

The extent to which the applicant has met the special competencies (see Eligibility Requirements) including knowledge of and familiarity with law enforcement roles in pedestrian safety issues associated with the proposed intervention or effort, technical and management skills needed to successfully design, conduct, and evaluate the proposed effort; ability to work with various organizations and the walking community to implement programs or compile data; ability to design and implement approaches for addressing pedestrian safety related problems; and experience in fostering new programs within law enforcement agencies.

Project Management and Staffing (20 percent)

The extent to which the proposed staff are clearly described, appropriately assigned, and have adequate skills and experience. The extent to which the applicant has the capacity and facilities to administer and execute the proposed project. The extent to which the applicant has provided details regarding the level of effort and allocation of time for each staff position. The extent to which the applicant has design/evaluation expertise and expertise working with the community. The applicant must furnish an organizational chart and résumés of each proposed staff member. The applicant must include letters of commitment from the official in charge of the participating law enforcement agency. Is the applicant's staffing plan reasonable for accomplishing the objectives of the project within the time frame set forth in the announcement? Is the timeline submitted by the grantee reasonable? Has the applicant's financial budget provided sufficient detail to allow NHTSA to determine that the estimated costs are reasonable and necessary to perform the proposed effort? Has financial or in-kind commitment of resources by the applicant's organization or other supporting organizations been clearly identified?

E. Analytic Plan (20 percent)

The extent to which the analytic plan clearly articulates the project's potential to make a significant impact on improving pedestrian safety or reducing pedestrian crashes, and associated injuries and fatalities. The extent to which the analytic plan indicates how the information/data collected in the project will be compiled, analyzed, interpreted and reported. When information is qualitative, what criteria will be used to analyze it? Are there sufficient data/information sources and is access ensured from appropriate owners or collectors of data to obtain and appropriately analyze the quantitative and qualitative information needed on the proposed project?

Special Award Selection Factors

While not a requirement of this announcement, applicants are strongly urged to seek funds from other Federal, State, local, and private sources to augment those available under this announcement. For those applications that are evaluated as meritorious for consideration of award, preference may be given to those that have proposed cost-sharing strategies and/or other proposed funding sources in addition to those in this announcement.

Terms and Conditions of Award

1. Prior to award, each grantee must comply with the certification requirements of 49 CFR part 20, Department of Transportation New Restrictions on Lobbying, and 49 CFR part 29, Department of Transportation Government-wide Debarment and Suspension (Non-procurement) and Government-wide Requirement for Drug Free Work Place (Grants).

2. Reporting Requirements and Deliverables:

A. Quarterly Progress Reports must include a summary of the previous quarter's activities and accomplishments, as well as the proposed activities for the upcoming quarter. Any decisions and actions required in the upcoming quarter should be included in the report. Any problems and issues that may arise and need the attention of the Contracting Officer's Technical Representative (COTR) or Contracting Officer (CO) should be clearly identified in the quarterly report in a specific, identified section. The grantee shall supply the progress report to the COTR every ninety (90) days, following date of award.

B. Initial and Subsequent Meetings with COTR: The grantee will meet with the COTR and appropriate NHTSA staff at NHTSA's offices in Washington DC to discuss and refine the development, implementation, and evaluation of the project. The grantee will prepare a 20 to 30 minute presentation describing the project and will be prepare to answer questions from the COTR and others present at the briefing. After this initial meeting with the COTR, the grantee should meet at least once a year with the COTR in Washington DC at NHTSA's offices, or at a mutually agreed-to conference, to discuss the project's progress and results. These meetings will be a minimum of 4 hours in length. No fewer than three meetings should be proposed.

C. Revised Project Plan: If needed, the grantee will submit a revised project plan incorporating verbal and written comments from the COTR. This revised plan is due no more than one (1) month after the date of the initial meeting with COTR.

D. Draft Final Report: The grantee will prepare a Draft Final Report that includes a description of the project, issue addressed, program implementation (if revelant), analytic strategies, findings, and recommendations. With regard to technology transfers, it is important to know what worked and what did not work, under what circumstances, what can be done to enhance replication in similar communities, and what can be done to avoid potential problems for future replication of the project. This is true even if the applicant reviewed and documented existing programs. The grantee will submit a Draft Final Report to the COTR 60 days prior to the end of the performance period. The COTR will review the Draft Final Report and provide comments to the grantee within 30 days of receipt of the document.

E. Final Report: The grantee will revise the Draft Final Report to reflect the COTR's comments. The revised final report will be delivered to the COTR 15 days before the end of the performance period.

F. Requirements for Printed Material: The print materials shall be provided in NHTSA in both camera-ready and appropriate media formats (disk, CD-ROM) with graphics and printing specifications to guide NHTSA's printing office and any outside organization implementing the program. Printing Specification follow.

a. Digital artwork for printing shall be provided to NHTSA on diskette (100MG Zip disk or 1GB Jaz disk). Files should be in current desktop design and publication programs, for example, Adobe Illustrator, Adobe Photoshop, Adobe Pagemaker, Macromedia Freehand, QuarkXPress. The grantee shall provide all supporting files and fonts (both screen and printers) needed for successful output, black and white laser separations of all pages, disk directory(s) with printing specifications provided to the Government Printing Office (GPO) on GPO Form 952 to guide NHTSA's printing office, GPO, and any outside organizations assisting with program production. The grantee shall confer with the COTR to verify all media format and language.

b. Additionally, the program materials shall be submitted in the following format for placement on NHTSA's Web site on the World Wide Web.

• Original application format, for example, *pm5; *doc; *ppt; etc.

• HTML level 3.2 or later.

• A PDF file for viewing with Adobe Acrobat.

c. All HTML deliverables must be delivered on either a standard 3.5″ floppy disk or on a Windows 95 compatible formatted Iomegal zip disk and labeled with the following information:

• Grantee's name and phone number.

• Names of relevant files.

• Application program and version used to create the file(s).

• If the files exceed the capacity of a high density floppy, a Windows 95 compatible formatted Iomega zip disk is acceptable.

d. Graphics must be saved in Graphic Interchange Format (GIF) or Joint Photographic Expert Group (JPEB). Graphics should be prepared in the smallest size possible, without reducing the usefulness or the readability of the figure on the screen. Use GIF for solid color or black and white images, such as bar charts, maps, or diagrams. Use JPEG (highest resolution and lowest compression) for photographic images having a wider range of color or grey-scale tones. When in doubt, try both formats and use the one that gives the best image quality for the smallest file size. Graphic files can be embedded in the body of the text or linked from the body text in their own files: the latter is preferable when a figure needs to be viewed full screen (640 × 480 pixels) to be readable.

• Tabular data must be displayed in HTML table format.

• List data must be displayed in HTML list format.

• Pre-formatted text is not acceptable.

• Currently, frames are not acceptable.

• JAVA, is used, must not affect the readability or usefulness of the document, only enhance it.

• Table background colors may be used, but must not be relied upon (for example, a white document background with a table with colored background may look nice with white text, but the colored background doesn't show up on the user's browser the text shall be white against white and unreadable.)

• All HTML documents must be saved in PC format and tested on a PC before delivery.

e. During all phases of program development, draft program contents and materials shall be provided to the COTR, as appropriate, for approval and coordination within NHTSA.

f. All HTML deliverables rendered under this cooperative agreement must comply with the accessibility standards at 36 CFR 1194.22 which implements section 508 of the Rehabilitation Act of 1973, as amended. This standard is available for viewing at the Access Board Web site at: http://www.access-board.gov/sec508/guide/1194.22.htm. Unless otherwise indicated, the grantee agrees by signing this cooperative agreement that all deliverable will comply with the accessibility standards.

g. Final project briefing to NHTSA and a presentation to a national meeting: The grantee will deliver a briefing in Washington, DC at NHTSA's offices to the COTR and appropriate NHTSA staff to review the project implementation, evaluations, and results. This presentation shall last no less than 30 minutes and the grantee shall be prepared to answer questions from the briefing's attendees.

In consultation with the COTR, the grantee will attend a national meeting to deliver a presentation of the project and it effectiveness.

h. The Grantee will deliver an electronic Microsoft PowerPoint presentation that NHTSA staff shall be able to use to brief senior staff or pedestrian partners at various meetings and conferences.

3. During the effective performance period of the cooperative agreements awarded as a result of this announcement, the agreements shall be subject to the National Highway Traffic Safety Administration's General Provisions for Assistance Agreement, dated July 1995.

Issued on: May 20, 2003.
Marilena Amoni,
Associate Administrator for Program Development and Delivery.

[FR Doc. 03-13493 Filed 5-29-03; 8:45 am]

BILLING CODE 4910-59-M